DEPARTMENT OF THE INTERIOR

National Park Service

[NPS-WASO-NRNHL-DTS#-34439; PPWOCRADI0, PCU00RP14.R50000]

National Register of Historic Places; Notification of Pending Nominations and Related Actions

AGENCY: National Park Service, Interior.

ACTION: Notice.

SUMMARY: The National Park Service is soliciting electronic comments on the significance of properties nominated before August 27, 2022, for listing or related actions in the National Register of Historic Places.

DATES: Comments should be submitted electronically by September 26, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before August 27, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

KEY: State, County, Property Name, Multiple Name (if applicable), Address/Boundary, City, Vicinity, Reference Number.

CALIFORNIA

Los Angeles County

Reinway Court (Bungalow Courts of Pasadena TR), 380 Parke St., Pasadena, 82005152

Monterey County

Asilomar Conference Grounds Warnecke Historic District, 800 Asilomar Blvd., Pacific Grove, BC100008261

San Francisco County

Pflueger, Timothy L., House, 1015 Guerrero St., San Francisco, SG100008228

Sonoma County

NORLINA (shipwreck and remains), Address Restricted, Jenner vicinity, SG100008248

DISTRICT OF COLUMBIA

District of Columbia

St. Joseph's Seminary, 1200 Varnum St. NE, Washington, SG100008232

FLORIDA

Duval County

West 4th Street Church of God, 723 West 4th St., Jacksonville, SG100008233

Escambia County

Motor Inn Number 2, 500 West Jackson St., Pensacola, SG100008234

IDAHO

Ada County

Owyhee Motorcycle Club, 6600 North Cartwright Rd., Boise vicinity, SG100008236

KANSAS

Allen County

Kress Building (S.H. Kress & Company Store), 9 South Jefferson St., Iola, SG100008240

Bourbon County

Brant, Claude and Alberta, House, 216 South Eddy St., Fort Scott, SG100008241

Douglas County

East Lawrence Industrial Historic District (Boundary Increase), 619, 620 East 8th Street, 804-846 Pennsylvania St., and 716 East 9th St., Lawrence, BC100008243

Johnson County

Shawnee Indian Cemetery, 10825 West 59th Terr., Shawnee, SG100008244

Riley County

Viking Manufacturing Company Building, 1531 Yuma St., Manhattan, SG100008245

LOUISIANA

Livingston Parish

Settoon, Luther V. and Josie N., House, 32210 2nd St., Springfield, SG100008254

Orleans Parish

Murray Henderson Elementary School, 1912 L.B. Landry Ln., New Orleans, SG100008238

MISSOURI

Carter County

Carter County Courthouse, 105 Main St., Van Buren, SG100008239

St. Louis County

Sancta Maria in Ripa, 320 East Ripa Ave., St. Louis, SG100008257

OHIO

Hamilton County

Madeira Railroad Depot, 7701 Railroad Ave., Madeira, SG100008258

PENNSYLVANIA

Delaware County

Williamson Free School of Mechanical Trades, 106 South New Middletown Rd., Middletown Township, SG100008235

SOUTH CAROLINA

Charleston County

Read Building, 593 King St., Charleston, SG100008253

Greenville County

Ellison Flour Mill, 100 Ellison St., Fountain Inn, SG100008251

Richland County

South Carolina State Library, 1500 Senate St., Columbia, SG100008259

York County

Fennell, Dr. W.W. and Mary, House, 334 North Confederate Ave., Rock Hill, SG100008250

WISCONSIN

La Crosse County

Bangor Commercial Historic District, 1501-1630 Commercial St., 1515-1601 Bangor St., 105-106 16th Ave. North, Bangor, SG100008252

Milwaukee County

A.O. Smith Corporation Headquarters, 3025 West Hopkins St. and 3533 North 27th St., Milwaukee, SG100008256

Additional documentation has been received for the following resources:

ARKANSAS

Faulkner County

Conway Commercial Historic District (Additional Documentation), Roughly bounded by Main, Harkrider, Spencer just south of Mill St., and Locust Sts., Conway, AD10000779

CALIFORNIA

Monterey County

Asilomar Conference Grounds, Asilomar Blvd., Pacific Grove, AD87000823

TEXAS

Nacogdoches County

Zion Hill Historic District, (Nacogdoches MPS), Roughly bounded by Park St., Lanana Cr., Oak Grove Cemetery, and North. Lanana St., Nacogdoches, AD92001759

Authority: Section 60.13 of 36 CFR part 60.

Dated: August 31, 2022.
Sherry A. Frear,
Chief, National Register of Historic Places/National Historic Landmarks Program.

[FR Doc. 2022-19466 Filed 9-8-22; 8:45 am]

BILLING CODE 4312-52-P